OFFICE OF GOVERNMENT ETHICS

Updated OGE Senior Executive Service Performance Review Board

AGENCY: Office of Government Ethics (OGE).

ACTION: Notice.

SUMMARY: Notice is hereby given of the appointment of new members to OGE's Senior Executive Service (SES) Performance Review Board.

DATES: This update is effective as of August 27, 2019.

FOR FURTHER INFORMATION CONTACT: Shelley K. Finlayson, Chief of Staff and Program Counsel, Office of Government Ethics, Suite 500, 1201 New York Avenue NW, Washington, DC 20005-3917; Telephone: 202-482-9300; TYY: 800-877-8339; FAX: 202-482-9237.

SUPPLEMENTARY INFORMATION: 5 U.S.C. 4314(c) requires each agency to establish, in accordance with regulations prescribed by the Office of Personnel Management at 5 CFR part 430, subpart C and § 430.310 thereof in particular, one or more Senior Executive Service performance review boards. As a small executive branch agency, OGE has just one board. In order to ensure an adequate level of staffing and to avoid a constant series of recusals, the designated members of OGE's SES Performance Review Board are being drawn, as in the past, in large measure from the ranks of other executive branch agencies. The board shall review and evaluate the initial appraisal of each OGE senior executive's performance by his or her supervisor, along with any recommendations in each instance to the appointing authority relative to the performance of the senior executive. In accordance with 5 CFR 430.311, this notice updates the membership of OGE's SES Performance Review Board as it was last published in 82 FR 43541 (September 18, 2017).

Approved: August 21, 2019.
Emory Rounds,
Director, U.S. Office of Government Ethics.

The following officials are appointed to serve as members of OGE's SES Performance Review Board: Shelley K. Finlayson, [Chair], Chief of Staff and Program Counsel, Program Counsel Division, Office of Government Ethics; Peter J. Constantine, Associate Solicitor, Office of Legal Counsel, Department of Labor; Kathleen Silbaugh, General Counsel, Office of the General Counsel, National Transportation Safety Board; and David Maggi, Chief, Ethics Law and Programs Division, Department Of Commerce.

[FR Doc. 2019-18368 Filed 8-26-19; 8:45 am]

BILLING CODE 6345-03-P